Proclamation 7562 of May 16, 2002

Armed Forces Day, 2002

By the President of the United States of America

A Proclamation

The words of President Dwight D. Eisenhower written in 1953 remain true today: “It is fitting and proper that we devote one day each year to paying special tribute to those whose constancy and courage constitute one of the bulwarks guarding the freedom of this nation and the peace of the free world.” On Armed Forces Day, our grateful Nation salutes the brave men and women who protect our country, defend freedom, and help make our world a better place.

During these extraordinary times, we are reminded that our achievements in peace and war stand upon the service and sacrifice of those in uniform. Today, we have troops fighting overseas to defeat terrorism. These brave men and women follow in the footsteps of previous generations who, since our Nation's founding, have stepped forward to defend our homeland and secure liberty for our country and our friends and allies. The members of our military exemplify the true spirit of patriotism—a love of country expressed through a commitment to serve our Nation and defend our freedom. Their selfless dedication and determination are an inspiration to every American.

In difficult times, America has called on members of our Armed Forces to protect the democratic ideals on which our country was founded, and they have never let our country down. As we confront the challenges of this new era, we will continue to rely on our military's extraordinary skill, sense of honor, devotion to duty, and courageous commitment to service.

More than 50 years ago, President Harry S. Truman helped establish a day for Americans to join together and thank our military members for their service to our country. In 1949, Secretary of Defense Louis Johnson announced the establishment of Armed Forces Day to replace separate Army, Navy, Marine Corps, and Air Force Days. A year later, President Truman issued a Presidential Proclamation, observing that the day “marks the first combined demonstration by America's defense team of its progress, under the National Security Act, towards the goal of readiness for any eventuality. It is the first parade of preparedness by the unified forces of our land, sea, and air defense.”

The theme of this year's celebration is “United For Freedom.” During this celebration, I encourage Americans to show the world that we are unified as a people and ready to defend our way of life, our freedoms, and our homeland. As President and Commander in Chief, I urge all our citizens to join me in expressing appreciation for the dedication and selfless service of the members of our extraordinary Armed Forces.

NOW, THEREFORE, I, GEORGE W. BUSH, President of the United States of America and Commander in Chief of the Armed Forces of the United States, continuing the precedent of my ten immediate predecessors in this Office, do hereby proclaim the third Saturday of each May as Armed Forces Day.

I direct the Secretary of Defense on behalf of the Army, Navy, Marine Corps, and Air Force, and the Secretary of Transportation on behalf of the Coast Guard, to plan for appropriate observances each year, with the Secretary of Defense responsible for soliciting the participation and cooperation of civil authorities and private citizens.

I invite the Governors of the States, the Commonwealth of Puerto Rico, and other areas subject to the jurisdiction of the United States, to provide for the observance of Armed Forces Day within their jurisdiction each year in an appropriate manner designed to increase public understanding and appreciation of the Armed Forces of the United States.

I also invite national and local veterans, civic, and community service organizations to join in the observance of Armed Forces Day each year.

I call upon all Americans not only to display the flag of the United States at their homes on Armed Forces Day, but also to learn about our system of defense and about the men and women who sustain it by attending and participating in the local observances of the day.

Proclamation 6693 of May 21, 1994, is hereby superseded.

IN WITNESS WHEREOF, I have hereunto set my hand this sixteenth day of May, in the year of our Lord two thousand two, and of the Independence of the United States of America the two hundred and twenty-sixth.

B

[FR Doc. 02-12860

Filed 05-20-02; 8:45 am]

Billing code 3195-01-P